DEPARTMENT OF JUSTICE

Drug Enforcement Administration

[Docket No. DEA-593]

Bulk Manufacturer of Controlled Substances Application: Scottsdale Research Institute

ACTION: Notice of application.

DATES: Registered bulk manufacturers of the affected basic classes, and applicants therefore, may file written comments on or objections to the issuance of the proposed registration on or before April 24, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on October 31, 2019, Scottsdale Research Institute, 5436 E Tapekim Road, Cave Creek, Arizona 85331 applied to be registered as a bulk manufacturer of the following basic classes of controlled substances:

Controlled substance | Drug code | Schedule
Psilocybin | 7437 | I
Psilocyn | 7438 | I

The company plans to bulk manufacture the above controlled substances to provide consistent medical grade active pharmaceutical ingredient (API) and reference standards for distribution to their research customers.

Dated: January 31, 2020.
William T. McDermott,
Assistant Administrator.

[FR Doc. 2020-03611 Filed 2-21-20; 8:45 am]

BILLING CODE 4410-09-P